DEPARTMENT OF COMMERCE

National Oceanic and Atmospheric Administration

RIN: 0648-XD99

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene Public Hearings on an Aquaculture Amendment.

DATES: The public hearings will held from December 10 - 13, 2007 at 5 locations throughout the Gulf of Mexico. See SUPPLEMENTARY INFORMATION for specific dates and times.

ADDRESSES: The public meetings will be held in the following locations:

St. Petersburg, FL; Biloxi, MS; Mobile, AL; New Orleans, LA; and Houston, TX. See SUPPLEMENTARY INFORMATION for specific dates and times.

Council address: Gulf of Mexico Fishery Management Council, 2203 North Lois Avenue, Suite 1100, Tampa, FL 33607.

FOR FURTHER INFORMATION CONTACT: Wayne Swingle, Executive Director; telephone: (813) 348-1630.

SUPPLEMENTARY INFORMATION: The Gulf of Mexico Fishery Management Council (Council) is preparing an amendment which will require persons to obtain a permit from NMFS to participate in aquaculture by constructing an aquaculture facility in the exclusive economic zone (EEZ) of the Gulf of Mexico. Each application for a permit must comply with many permit conditions related to record keeping and operation of the facility. These permit conditions will assure the facility has a minimal affect on the environment and on other fishery resources. Compliance with the conditions will be evaluated annually for the duration of the permit as the basis for renewal of the permit for the next year.

The public hearings will begin at 6 p.m. and conclude at the end of public testimony or no later than 9 p.m. at each of the following locations:

•Monday, December 10, 2007, Hilton Houston Hobby Airport, 8181 Airport Blvd., Houston, TX 77061, telephone: (713) 645-3000;

•Monday, December 10, 2007, Comfort Inn North, 2260 54th Avenue North, St. Petersburg, FL 33714, telephone: (727) 362-0075;

•Tuesday, December 11, 2007, Hilton New Orleans Airport, 901 Airline Drive, New Orleans, LA 70062, telephone: (504) 469-5000;

•Wednesday, December 12, 2007, Wingate Inn, 12009 Indian River, Road, Biloxi, MS 39540, telephone: (228) 396-0036;

•Thursday, December 13, 2007, Ashbury Hotel, 600 Beltline Hwy, Mobile, AL 36608, telephone: (251) 344-8030;

Copies of the Amendment a can be obtained by calling the Council office at (813) 348-1630.

Special Accommodations

These meetings are physically accessible to people with disabilities. Requests for sign language interpretation or other auxiliary aids should be directed to Tina Trezza at the Council (see ADDRESSES) at least 5 working days prior to the meeting.

Dated: November 15, 2007.
Tracey L. Thompson,
Acting Director, Office of Sustainable Fisheries, National Marine Fisheries Service.

[FR Doc. E7-22639 Filed 11-19-07; 8:45 am]

BILLING CODE 3510-22-S